ENVIRONMENTAL PROTECTION AGENCY

[FRL-10006-24-OLEM]

FY2020 Supplemental Funding for Brownfields Revolving Loan Fund (RLF) Grantees

AGENCY: Environmental Protection Agency (EPA).

ACTION: Notice of the availability of funds.

SUMMARY: The Environmental Protection Agency (EPA) plans to make available approximately $5 million to provide supplemental funds to Revolving Loan Fund (RLF) cooperative agreements previously awarded competitively under section 104(k)(3) of the Comprehensive Environmental Response, Compensation and Liability Act (CERCLA). EPA will consider awarding supplemental funding only to RLF grantees who have demonstrated an ability to deliver programmatic results by making at least one loan or subgrant. The award of these funds is based on the criteria described at CERCLA 104(k)(5)(A)(ii). The Agency is now accepting requests for supplemental funding from RLF grantees. Specific information on submitting a request for RLF supplemental funding is described below and additional information may be obtained by contacting the appropriate EPA Regional Brownfields Coordinator listed under SUPPLEMENTARY INFORMATION.

DATES: Requests for funding must be submitted to the appropriate EPA Regional Brownfields Coordinator listed under SUPPLEMENTARY INFORMATION by April 8, 2020.

ADDRESSES: A request for supplemental funding must be in the form of a letter addressed to the appropriate Regional Brownfields Coordinator listed under SUPPLEMENTARY INFORMATION with a copy to Rachel Congdon at congdon.rachel@epa.gov and to Rachel Lentz at lentz.rachel@epa.gov.

FOR FURTHER INFORMATION CONTACT: Rachel Congdon, Office of Brownfields and Land Revitalization, Environmental Protection Agency, 1200 Pennsylvania Ave. NW, Washington, DC 20460-0001; telephone number (202) 566-1564; email address: congdon.rachel@epa.gov. You may also contact the appropriate Regional Brownfields Coordinator listed under SUPPLEMENTARY INFORMATION.

SUPPLEMENTARY INFORMATION:

I. Background

The Small Business Liability Relief and Brownfields Revitalization Act added section 104(k) to CERCLA to authorize federal financial assistance for brownfields revitalization, including grants for assessment, cleanup and job training. Section 104(k) includes a provision for EPA to, among other things, award grants to eligible entities to capitalize Revolving Loan Funds and to provide loans and subgrants for brownfields cleanup. Section 104(k)(5)(A)(ii) authorizes EPA to make additional grant funds available to RLF grantees for any year after the year for which the initial grant is made (noncompetitive RLF supplemental funding) taking into consideration:

(I) The number of sites and number of communities that are addressed by the revolving loan fund;

(II) the demand for funding by eligible entities that have not previously received a grant under this subsection;

(III) the demonstrated ability of the eligible entity to use the revolving loan fund to enhance remediation and provide funds on a continuing basis; and

(IV) such other similar factors as the Agency considers appropriate to carry out this subsection.

II. Eligibility

In order to be considered for supplemental funding, grantees must demonstrate that they have significantly depleted funds (both EPA grant funding and any available program income) and that they have a clear plan for utilizing requested additional funds in a timely manner. Grantees must demonstrate that they have made at least one loan or subgrant prior to applying for this supplemental funding and have significantly depleted existing available funds. For FY2020, EPA defines “significantly depleted funds” as uncommitted, available funding is 25% or less of total RLF funds awarded under all open and closed grants and cannot exceed $600,000. For new RLF recipients with an award of $1 million or less, funds will be consider significantly depleted if the uncommitted, available funding does not exceed $300,000. Additionally, the RLF recipient must have demonstrated a need for supplemental funding based on, among other factors, the list of potential projects in the RLF program pipeline; demonstrated the ability to make loans and subgrants for cleanups that can be started, completed, and will lead to redevelopment; demonstrated the ability to administer and revolve the RLF by generating program income; demonstrated an ability to use the RLF grant to address funding gaps for cleanup; and demonstrated that they have provided for past and will provide for future community benefit from past and potential loan(s) and/or subgrant(s). EPA encourages innovative approaches to maximize revolving and leveraging with other funds, including use of grants funds as a loan loss guarantee or combining with other government or private sector lending resources. Applicants for supplemental funding must contact the appropriate Regional Brownfields Coordinator below to obtain information on the format for supplemental funding applications for their region.

III. Regional Brownfields Coordinators

• EPA Region 1 (for CT, ME, MA, NH, RI, and VT): Joe Ferrari, 5 Post Office Square, Boston, MA 02109-3912; telephone number (617) 918-1105; email address: Ferrari.Joe@epa.gov.

• EPA Region 2 (for NJ, NY, PR, and VI): Alison Devine, 290 Broadway, 18th Floor, New York, NY 10007; telephone number (212) 637-4158; email address: Devine.Alison@epa.gov.

• EPA Region 3 (for DE, DC, MD, PA, VA, and WV): Brett Gilmartin, 1650 Arch Street, Mail Code 3HS51, Philadelphia, Pennsylvania 19103-2029; telephone number (215) 814-3405; email address: Gilmartin.Brett@epa.gov.

• EPA Region 4 (for AL, FL, GA, KY, MS, NC, SC, and TN): Derek Street, Atlanta Federal Center, 61 Forsyth Street SW, 10TH FL, Atlanta, GA 30303-8960; telephone number (404) 562-8574; email address: Street.Derek@epa.gov.

• EPA Region 5 (for IL, IN, MI, MN, OH, and WI): Keary Cragan, 77 West Jackson Boulevard, Mail Code SB-5J, Chicago, Illinois 60604-3507; telephone number (312) 353-5669; email address: Cragan.Keary@epa.gov.

• EPA Region 6 (for AR, LA, NM, OK, and TX): Camisha Scott, 1445 Ross Avenue, Suite 1200 (6SF-PB), Dallas, Texas 75202-2733; telephone number (214) 665-6755; email address: Scott.Camisha@epa.gov.

• EPA Region 7 (for IA, KS, MO, and NE): Susan Klein, 11201 Renner Blvd., Lenexa, Kansas 66219; telephone number (913) 551-7786; email address: R7_Brownfields@epa.gov.

• EPA Region 8 (for CO, MT, ND, SD, UT, and WY): Ted Lanzano, 1595 Wynkoop Street (EPR-B), Denver, CO 80202-1129; telephone number (303) 312-6596; email address: Lanzano.Ted@epa.gov.

• EPA Region 9 (for AZ, CA, HI, NV, AS, and GU): Noemi Emeric-Ford, 75 Hawthorne Street, WST-8, San Francisco, CA 94105; telephone number (213) 244-1821; email address: Emeric-Ford.Noemi@epa.gov.

• EPA Region 10 (for AK, ID, OR, and WA): Susan Morales, 1200 Sixth Avenue, Suite 900, Mailstop: ECL-112 Seattle, WA 98101; telephone number (206) 553-7299; email address: Morales.Susan@epa.gov.

Dated: March 3, 2020.
David Lloyd,
Director, Office of Brownfields and Land Revitalization, Office of Land and Emergency Management.

[FR Doc. 2020-04682 Filed 3-6-20; 8:45 am]

BILLING CODE 6560-50-P